INTERNATIONAL TRADE COMMISSION

[Investigation No. 337-TA-1052]

Certain Thermoplastic-Encapsulated Electric Motors, Components Thereof, and Products and Vehicles Containing Same Institution of Investigation

AGENCY: U.S. International Trade Commission.

ACTION: Notice.

SUMMARY: Notice is hereby given that a complaint was filed with the U.S. International Trade Commission on March 21, 2017, under section 337 of the Tariff Act of 1930, as amended, on behalf of Intellectual Ventures II LLC of Bellevue, Washington. The complaint alleges violations of section 337 based upon the importation into the United States, the sale for importation, and the sale within the United States after importation of certain thermoplastic-encapsulated electric motors, components thereof, and products and vehicles containing same by reason of infringement of certain claims of U.S. Patent No. 7,154,200 (“the '200 patent”); U.S. Patent No. 7,067,944 (“the '944 patent”); U.S. Patent No. 7,067,952 (“the '952 patent”); U.S. Patent No. 7,683,509 (“the '509 patent”); and U.S. Patent No. 7,928,348 (“the '348 patent”). The complaint further alleges that an industry in the United States exists or is in the process of being established as required by the applicable Federal Statute.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at https://www.usitc.gov. The public record for this investigation may be viewed on the Commission's electronic docket (EDIS) at https://edis.usitc.gov.

FOR FURTHER INFORMATION CONTACT: The Office of Unfair Import Investigations, U.S. International Trade Commission, telephone (202) 205-2560.

Authority: The authority for institution of this investigation is contained in section 337 of the Tariff Act of 1930, as amended, 19 U.S.C. 1337 and in section 210.10 of the Commission's Rules of Practice and Procedure, 19 CFR 210.10 (2017).

Scope of Investigation: Having considered the complaint, the U.S. International Trade Commission, on April 26, 2017, ordered that—

(1) Pursuant to subsection (b) of section 337 of the Tariff Act of 1930, as amended, an investigation be instituted to determine whether there is a violation of subsection (a)(1)(B) of section 337 in the importation into the United States, the sale for importation, or the sale within the United States after importation of certain thermoplastic-encapsulated electric motors, components thereof, and products and vehicles containing same by reason of infringement of one or more of claims 1-2 and 4-7 of the '200 patent; claims 24-27 of the '348 patent; claims 1-2 and 14-15 of the '509 patent; claims 3, 9, 11 of the '944 patent; claims 10 and 12 of the '952 patent, and whether an industry in the United States exists or is in the process of being established as required by subsection (a)(2) of section 337;

(2) Pursuant to Commission Rule 210.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors set forth in 19 U.S.C. 1337(d)(1), (f)(1), (g)(1);

(3) For the purpose of the investigation so instituted, the following are hereby named as parties upon which this notice of investigation shall be served:

(a) The complainant is: Intellectual Ventures II LLC, 3150 139th Avenue SE., Building 4, Bellevue, WA 98005.

(b) The respondents are the following entities alleged to be in violation of section 337, and are the parties upon which the complaint is to be served:

Aisin Seiki Co., Ltd., 2-1, Asahimachi, Kariya 448-0032, Aichi, Japan

Aisin Holdings of America, Inc., 1665 E 4th Street Road, Seymour, IN 47274

Aisin Technical Center of America, Inc., 15300 Centennial Drive, Northville, MI 48168

Aisin World Corporation of America, 15300 Centennial Drive, Northville, MI 48168

Bayerische Motoren Werke AG, Petuelring 130, D-80788, Munich, Germany

BMW of North America, LLC, 300 Chestnut Ridge Rd., Woodcliff Lake, NJ 07677

BMW Manufacturing Co., LLC, 1400 Hwy. 101 S., Greer, SC 29651-6731

Denso Corporation, 1-1, Showacho, Kariya 448-0029, Aichi, Japan

Denso International America, Inc., 24777 Denso Drive, Southfield, MI 48033

Honda Motor Co., Ltd., 1-1, 2-chome, Minami-Aoyama, Minato-ku, Tokyo 107-8556, Japan

Honda North America, Inc., 700 Van Ness Avenue, Torrance, CA 90501

American Honda Motor Co., Inc., 1919 Torrance Blvd., Torrance, CA 90501

Honda of America Mfg., Inc., 24000 Honda Pkwy., Marysville, OH 43040

Honda Manufacturing of Alabama, LLC, 1800 Honda Drive, Lincoln, AL 35096

Honda R&D Americas, Inc., 1900 Harpers Way, Torrance, CA 90501

Mitsuba Corporation, 1-2681, Hirosawacho, Kiryu 376-0013, Gunma, Japan

American Mitsuba Corporation, 2945 Three Leaves Drive, Mount Pleasant, MI 48858

Nidec Corporation, 338, Tonoshirocho, Kuze, Minami-Ku, Kyoto, Japan

Nidec Automotive Motor Americas, LLC, 1800 Opdyke Court, Auburn Hills, MI 48326

Toyota Motor Corporation, 1 Toyota-cho, Toyota City, Aichi Prefecture 471-8571, Japan

Toyota Motor North America, Inc., 601 Lexington Ave., 49th Floor, New York, NY 10022

Toyota Motor Sales, U.S.A., Inc., 19001 S. Western Avenue, Torrance, CA 90501

Toyota Motor Engineering & Manufacturing, North America, Inc., 25 Atlantic Avenue, Erlanger, KY 41018

Toyota Motor Manufacturing, Indiana, Inc., 4000 Tulip Tree Drive, Princeton, IN 47670

Toyota Motor Manufacturing, Kentucky, Inc., 1001 Cherry Blossom Way, Georgetown, KY 40324

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: April 28, 2017.
Lisa R. Barton,
Secretary to the Commission.

[FR Doc. 2017-08923 Filed 5-2-17; 8:45 am]

BILLING CODE 7020-02-P